FEDERAL TRADE COMMISSION

16 CFR Part 305

Rule Concerning Disclosures Regarding Energy Consumption and Water Use of Certain Home Appliances and Other Products Required Under the Energy Policy and Conservation Act (“Appliance Labeling Rule”)

AGENCY: Federal Trade Commission.

ACTION: Final rule revision.

SUMMARY: The Federal Trade Commission (“Commission”) revises Table 1 in section 305.9 of the Commission's Appliance Labeling Rule (“the Rule”), to incorporate the latest figures for average unit energy costs as published by the Department of Energy (“DOE”) in the Federal Register on February 7, 2000. Table I sets for the representative average unit energy costs for five residential energy sources, which the Commission revises periodically on the basis of updated information provided by DOE.

DATES: The revisions to § 305.9(a) are effective April 17, 2000. The mandatory dates for using these revised DOE cost figures in connection with the Appliance Labeling Rule are detailed in the Supplementary Information Section, below.

FOR FURTHER INFORMATION CONTACT: James Mills, Attorney, 202-326-3035, Division of Enforcement, Federal Trade Commission, Washington, DC 20580.

SUPPLEMENTARY INFORMATION: On November 19, 1979, the Federal Trade Commission issued a final rule in response to a directive in section 324 of the Energy Policy and Conservation Act (“EPCA”), 42 U.S.C. 6201.¹ The Rule requires the disclosure of energy efficiency, consumption, or cost information on labels and in retail sales catalogs for eight categories of appliances, and mandates that the energy costs, consumption, or efficiency ratings be based on standardized test procedures developed by DOE. The cost information obtained by following the test procedures is derived by using the representative average unit energy costs provided by DOE. Table 1 in § 305.9(a) of the Rule sets forth the representative average unit energy costs to be used for all cost-related requirements of the Rule. As stated in § 305.9(b), the Table is to be revised periodically on the basis of updated information provided by DOE.

¹ 44 FR 66466. Since its promulgation, the rule has been amended five times to include new product categories—central air conditioners (52 FR 46888, Dec. 10, 1987), fluorescent lamp ballasts (54 FR 1182, Jan. 12, 1989), certain plumbing products (58 FR 54955, Oct. 25, 1993), certain lamp products (59 FR 25176, May 13, 1994), and pool heaters and certain residential water heater types (59 FR 49556, Sept. 28, 1994). Obligations under the rule concerning fluorescent lamp ballasts, lighting products, plumbing products and pool heaters are not affected by the cost figures in this notice.

On February 7, 2000, DOE published the most recent figures for representative average unit energy costs (65 FR 5860). These energy cost figures are for manufacturers to use, in accordance with the guidelines that appear below, to calculate the required secondary annual operating cost figures at the bottom of required Energy Guides for refrigerators, refrigerator-freezers, freezers, dishwashers, clothes washers, water heaters, and room air conditioners. The energy cost figures also are for manufacturers of furnaces, boilers, central air conditioners, and heat pumps to use, also in accordance with the below guidelines, to calculate annual operating cost for required fact sheets. And, the cost figures are for use, in accordance with the guidelines, in approved industry directories listing these products.

The DOE cost figures are not necessary for making data submissions to the Commission. The required energy use information that manufacturers of refrigerators, refrigerator-freezers, freezers, clothes washers, dishwashers, and water heaters must submit under § 305.8 of the Rule is no longer operating cost; it is now energy consumption (kiloWatt-hour use per year for electricity, therms per year for natural gas, or gallons per year for propane and oil).

Accordingly, Table 1 is revised to reflect these latest cost figures, as set forth below. The current and future obligations of manufacturers with respect to the use of DOE's cost figures are as follows:

For Labeling of Refrigerators, Refrigerator-Freezers, Freezers, Clothes Washers, Dishwashers, Water Heaters, and Room Air Conditioners ²

Manufacturers of refrigerators, refrigerator-freezers, freezers, clothes washers, dishwashers, water heaters, and room air conditioners must use the National Average Representative Unit Costs published today on labels for their products only after the Commission publishes new ranges of comparability for those products that are based on today's cost figures. In the meantime, they must continue to use past DOE cost figures as follows:

² Sections 305.11(a)(5)(i)(H)(2) and (3) of the Rule (16 CFR 305.11(a)(5)(i)(H)(2) and (3)) require that labels for refrigerators, refrigerator-freezers, freezers, clothes washers, dishwashers, water heaters, and room air conditioners contain a secondary energy usage disclosure in terms of an estimated annual operating cost (labels for clothes washers and dishwashers will show two such secondary disclosures—one based on operation with water heated by natural gas, and one on operation with water heated by electricity). The labels also must disclose, below this secondary estimated annual operating cost, the fact that the estimated annual operating cost is based on the appropriate DOE energy cost figure, and must identify the year in which the cost figure was published.

Storage-Type Water Heaters

Manufacturers of storage-type water heaters must continue to use the 1994 DOE cost figures (8.41 cents per kilo Watt-hour for electricity, 60.4 cents per therm for natural gas, $1.054 per gallon for No. 2 heating oil, and 98.3 cents per gallon for propane) in determining the operating cost disclosures on the labels on their products. This is because the 1994 DOE cost figures were in effect when the 1994 ranges of comparability for storage-type water heaters were published, and those 1994 ranges are still in effect for those products.³ Manufacturers of storage-type water heaters must continue to use the 1994 cost figures to calculate the estimated annual operating cost figures on their labels until the Commission publishes new ranges of comparability for storage-type water heaters. In the notice announcing the new ranges, the Commission also will announce that operating cost disclosures must be based on the DOE cost figure for electricity in effect at that time.

³ The 1994 DOE cost figures were published by DOE on December 29, 1993 (58 FR 68901), and by the Commission on February 8, 1994 (59 FR 5699). The current (1994) ranges of comparability for storage-type water heaters were published on September 23, 1994 (59 FR 48796). On August 21, 1995 (60 FR 43367), on September 16, 1996 (61 FR 48620), on August 25, 1997 (62 FR 44890), again on August 28, 1998 (63 FR 45941), and again on December 20, 1999 (64 FR 71019), the Commission announced that the 1994 ranges for storage-type water heaters would continue to remain in effect.

Heat Pump Water Heaters and Room Air Conditions

Manufacturers of heat pump water heaters and room air conditioners must continue to derive the operating cost disclosures on labels by using the 1995 National Average Representative Unit Costs for electricity (8.67 cents per kilo Watt-hour) that were published by DOE on January 5, 1995 (60 FR 1773), and by the Commission on February 17, 1995 (60 FR 9296), and that were in effect when the current (1995) ranges of comparability for these products were published.⁴ Manufacturers of heat pump water heaters and room air conditioners must continue to use the 1995 DOE cost figures to calculate the operating cost disclosure disclosed on labels until the Commission publishes new ranges of comparability for heat pump water heaters or room air conditioners based on future annual submissions of data. In the notice announcing the new ranges, the Commission also will announce that operating cost disclosures must be based on the DOE cost figure for electricity in effect at that time.

⁴ The current (1995) ranges of comparability for heat pump water heaters were published on August 21, 1995 (60 FR 43367). The current (1995) ranges for room air conditioners were published on November 13, 1995 (60 FR 56945). On September 16, 1996 (61 FR 48620), again on August 25, 1997 (62 FR 44890), again on August 28, 1998 (63 FR 45941), and again on December 20, 1999 (64 FR 71019), the Commission announced that the 1995 ranges for heat pump water heaters and room air conditioners would continue to remain in effect.

Standard-Size Dishwashers

Manufacturers of standard-size dishwashers must continue to base the required secondary operating cost disclosures on labels on the 1997 National Average Representative Unit Costs for electricity (8.31 cents per kilo Watt-hour) and natural gas (61.2 cents per therm) that were published by DOE on November 18, 1996 (61 FR 58679), and by the Commission on February 5, 1997 (62 FR 5316), and that were in effect when the 1997 ranges of comparability for these products were published.⁵ In the notice announcing the new ranges, the Commission also will announce that operating cost disclosures must be based on the DOE cost figure for electricity in effect at that time.

⁵ The current ranges for standard-size dishwashers were published on August 25, 1997 (62 FR 44890). On August 28, 1998 (63 FR 45941), and again on December 20, 1999 (64 FR 71019), the Commission announced that the 1997 ranges for standard-size dishwashers would continue to remain in effect.

Compact-Size Dishwashers, Clothes Washers, and Gas-Fired Instantaneous Water Heaters

Manufacturers of compact-size dishwashers, clothes washers, and gas-fired instantaneous water heaters must continue to base the required secondary operating cost disclosures on labels on the 1999 National Average Representative Unit Costs for electricity (8.22 cents per kilo Watt-hour), natural gas (68.8 cents per therm), and propane (77 cents per therm) that were published by DOE on January 5, 1999 (64 FR 487), and by the Commission on February 17, 1999 (64 FR 7783), and that were in effect when the 1999 ranges of comparability for these products were published.⁶ In the notice announcing the new ranges, the Commission also will announce that operating cost disclosures must be based on the DOE cost figure for electricity in effect at that time.

⁶ The current ranges of comparability for clothes washers were published on June 17, 1999 (64 FR 32403). The current ranges for compact-size dishwashers and gas-fired instantaneous water heaters were published on December 20, 1999 (64 FR 71019).

Refrigerators, Refrigerator-Freezers, and Freezers

Manufacturers of refrigerators, refrigerator-freezers, and freezers must continue to derive the operating cost disclosures on labels by using the 1998 National Average Representative Unit Costs (8.42 cents per kilo Watt-hour for electricity, 61.9 cents per therm for natural gas, 95 cents per gallon for No. 2 heating oil, and 95 cents per gallon for propane) that were published by DOE on December 8, 1997 (62 FR 64574), and by the Commission on December 29, 1997 (62 FR 67560), and that were in effect when the current (1998) ranges of comparability for these products were published.⁷ In the notice announcing the new ranges, the Commission also will announce that operating cost disclosures must be based on the DOE cost figure for electricity in effect at that time.

⁷ The current (1998) ranges for refrigerators, refrigerator-freezers, and freezers were published on December 2, 1998 (63 FR 66428).

For Operating Cost Information Relating to Central Air Conditioners and Heat Pumps Disclosed on Fact Sheets and in Industry Directories

In the 2000 notice announcing whether there will be new ranges of comparability for central air conditioners and heat pumps, the Commission also will announce that operating cost disclosures for these products on fact sheets and in industry directories must be based on the 2000 DOE cost figure for electricity beginning on the effective date of that notice.

For Operating Cost Representations Respecting Covered Products in Catalogs

Operating cost representations in catalogs that are drafted and printed while the 2000 cost figures are in effect must be derived using the 2000 energy costs beginning July 17, 2000.

For Operating Cost Representations Respecting Products Covered by EPCA but not by the Commission's Rule

Manufacturers of products covered by section 323(c) of EPCA, 42 U.S.C. 6293(c), but not by the Appliance Labeling Rule (clothes dryers, television sets, kitchen ranges and ovens, and space heaters) must use the 2000 DOE energy costs in all operating cost representations beginning July 17, 2000.

Regulatory Flexibility Act

The provisions of the Regulatory Flexibility Act relating to a Regulatory Flexibility Act analysis (5 U.S.C. 603-604) are not applicable to this proceeding because the amendments do not impose any new obligations on entities regulated by the Appliance Labeling Rule. Thus, the amendments will not have a “significant economic impact on a substantial number of small entities” (5 U.S.C. 605). The Commission has concluded, therefore, that a regulatory flexibility analysis is not necessary, and certifies, under Section 605 of the Regulatory Flexibility Act (5 U.S.C. 605(b)), that the amendments announced today will not have a significant economic impact on a substantial number of small entities.

List of Subjects in 16 CFR Part 305

Advertising, Energy conservation, Household appliances, Labeling, Reporting and recordkeeping requirements.

PART 305—[AMENDED]

Accordingly, 16 CFR Part 305 is amended as follows:

1. The authority citation for Part 305 continues to read:

Authority: 42 U.S.C. 6294.

2. Section 305.9(a) is revised to read as follows:

§ 305.9 Representative average unit energy costs.

(a) Table 1 to this paragraph contains the representative unit energy costs to be utilized for all requirements of this part.

Table 1.—Representative Average Unit Costs of Energy for Five Residential Energy Sources (2000)
Type of energy | In commonly used terms | As required by DOE test procedure | Dollars per million Btu ¹
Electricity | 8.03/¢/kWh ²,³ | $0.0803/kWh | $23.53
Natural Gas | 68.8¢/therm ⁴ or $7.07/MCF ⁵,⁶ | $0.00000688/Btu | 6.88
No. 2 heating oil | $1.09/gallon ⁷ | $0.00000786/Btu | 7.86
Propane | $.92/gallon ⁸ | $0.00001007/Btu | 10.07
Kerosene | $1.14/gallon ⁹ | $0.00000844/Btu | 8.44
¹ Btu stands for British thermal unit.
² kWh stands for kiloWatt hour.
³ 1 kWh=3,412 Btu.
⁴ 1 therm=100,000 Btu. Natural gas prices include taxes.
⁵ MCF stands for 1,000 cubic feet.
⁶ For the purposes of this table, I cubic foot of natural gas has an energy equivalence of 1,027 Btu.
⁷ For the purposes of this table, 1 gallon of No. 2 heating oil has an energy equivalence of 138,690 Btu.
⁸ For the purposes of this table, 1 gallon of liquid propane has an energy equivalence of 91,333 Btu.
⁹ For the purposes of this table, 1 gallon of kerosene has an energy equivalence of 135,000 Btu.

* * * * *

Donald S. Clark,
Secretary.

[FR Doc. 00-9527 Filed 4-14-00; 8:45 am]

BILLING CODE 6750-01-M